DEPARTMENT OF COMMERCE

International Trade Administration

North American Free-Trade Agreement (NAFTA), Article 1904 NAFTA Panel Reviews; Decision of the Committee

AGENCY: NAFTA Secretariat, United States Section, International Trade Administration, Department of Commerce

ACTION: Notice of completion of extraordinary challenge.

SUMMARY: On October 30, 2003 the Extraordinary Challenge Committee (ECC) issued its decision in the matter of Gray Portland Cement and Clinker from Mexico, Secretariat File No. ECC-2000-1904-01USA.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter was conducted in accordance with these Rules.

SUPPLEMENTARY INFORMATION: On March 23, 2000, the Office of the United States Trade Representative filed a Request for an Extraordinary Challenge Committee to review decisions dated July 18, 1999 and November 10, 1999, with the United States Section of the NAFTA Secretariat pursuant to Article 1904 of the North American Free Trade Agreement. Panel review was requested of the final antidumping duty administrative review determination made by the International Trade Administration, respecting Gray Portland Cement and Clinker from Mexico. This determination was published in the Federal Register (65 FR 9243) on February 24, 2000. The NAFTA Secretariat assigned Secretariat File Number ECC-2000-1904-01USA to this request.

Committee Decision: The Committee concluded that the petitioners here, the United States and the STCC, have failed to demonstrate either that the Binational Panel “manifestly exceeded its powers, authority or jurisdictions” or that the Panel's determination on the single issue raised in the petition “threatens the integrity of the Binational Panel review process.” Inasmuch as these criteria have not been met, the petition is denied and the June 18, 1999 decision of the Binational Panel will not be disturbed.

The Committee Members are hereby discharged from their duties effective October 30, 2003.

Dated: October 30, 2003.
Caratina L. Alston,
U.S. Secretary, NAFTA Secretariat.

[FR Doc. 03-27862 Filed 11-4-03; 8:45 am]

BILLING CODE 3510-GT-P